NUCLEAR REGULATORY COMMISSION

[DC/COL-ISG-020; NRC-2009-0457]

Office of New Reactors; Interim Staff Guidance on Implementation of a Seismic Margin Analysis for New Reactors Based on Probabilistic Risk Assessment

AGENCY: Nuclear Regulatory Commission (NRC).

ACTION: Notice of availability.

SUMMARY: The NRC is issuing its Final Interim Staff Guidance (ISG) DC/COL-ISG-020 titled “Implementation of a Seismic Margin Analysis for New Reactors Based on Probabilistic Risk Assessment,” (Agencywide Documents Access and Management System (ADAMS) Accession No. ML100491233). This ISG supplements the guidance provided to the staff in Section 19.0 of NUREG-0800, “Standard Review Plan for the Review of Safety Analysis Reports for Nuclear Power Plants,” issued March 2007 and DC/COL-ISG-03, “Probabilistic Risk Assessment Information to Support Design Certification and Combined License Applications,” dated June 11, 2008 (ADAMS Accession No. ML081430087) concerning the review of probabilistic risk assessment (PRA) information and severe accident assessments submitted to support design certification (DC) and combined license (COL) applications. The NRC staff intends to incorporate DC/COL-ISG-020 into the next revision of SRP Section 19.0 and Regulatory Guide 1.206, “Combined License Applications for Nuclear Power Plants (LWR Edition),” June 2007.

Disposition: On October 16, 2009, the NRC staff issued the proposed ISG, DC/COL-ISG-020 “Implementation of a Seismic Margin Analysis for New Reactors Based on Probabilistic Risk Assessment,” (ADAMS Accession No. ML092650316) to solicit public and industry comment. The NRC staff received comments on the proposed guidance. This final issuance incorporates changes from the majority of the comments. The NRC staff responses to these comments can be found in ADAMS Accession No. ML100491287.

ADDRESSES: The NRC maintains ADAMS, which provides text and image files of NRC's public documents. These documents may be accessed through the NRC's Public Electronic Reading Room on the Internet at http://www.nrc.gov/reading-rm/adams.html. Persons who do not have access to ADAMS, or who encounter problems in accessing the documents located in ADAMS, should contact the NRC Public Document Room reference staff at 1-800-397-4209, 301-415-4737, or by e-mail at pdr.resource@nrc.gov.

FOR FURTHER INFORMATION CONTACT: Dr. Kimberly A. Hawkins, Chief, Structural Engineering Branch 2, Division of Engineering, Office of the New Reactors, U.S. Nuclear Regulatory Commission, Washington, DC 20555-0001; telephone at 301-415-0564 or e-mail at Kimberly.Hawkins@nrc.gov.

SUPPLEMENTARY INFORMATION: The agency posts its issued staff guidance in the agency external Web page (http://www.nrc.gov/reading-rm/doc-collections/isg/).

Dated at Rockville, Maryland, this 15th day of March 2010.
For the Nuclear Regulatory Commission.
William F. Burton,
Chief, Rulemaking and Guidance Development Branch, Division of New Reactor Licensing, Office of New Reactors.

[FR Doc. 2010-6200 Filed 3-19-10; 8:45 am]

BILLING CODE 7590-01-P